DEPARTMENT OF AGRICULTURE

Submission for OMB Review; Comment Request

October 26, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Survey of Cooperatives on Selecting Director Candidates for Director Elections.

OMB Control Number: 0570-0051.

Summary of Collection: Section 6029 of the Farm Security and Rural Investment Act of 2002 (Pub. L. 107-171) amended the Consolidated Farm and Rural Development Act (U.S.C. 2009cc) by adding Subtitle H—Rural Business Investment Program (RBIP). The purpose of RBIP is to promote economic development, create job opportunities in rural areas and to establish a developmental venture capital program with the mission of addressing unmet equity investment needs of small enterprises located in rural areas. In October 2003, USDA and Small Business Administration (SBA) signed an Economy Act Agreement authorizing SBA to provide “the day to day” management and operation of the RBIP.

Need and Use of the Information: USDA will use the information to determine eligibility for licensing as a Rural Business Investment Company (RBIC) and evaluate whether applicants have fulfilled the statutory and regulatory requirements of the RBIP. If the information were not collected, USDA would be unable to meet its statutory responsibilities with respect to the licensing and oversight of RBICs.

Description of Respondents: Business or other for-profit; not-for-profit institutions.

Number of Respondents: 108.

Frequency of Responses: Recordkeeping; reporting: quarterly; annually.

Total Burden Hours: 6,689.

Rural Housing Service

Title: 7 CFR 1806-A. “Real Property Insurance”.

OMB Control Number: 0575-0087.

Summary of Collection: The Rural Housing Service (RHS) Multi-Family Housing (MFH) Program is administered under the provisions of the Housing Act of 1949 and sections 303(c), and 321 (b) of the Consolidated Farm and Rural Development Act (CONACT). The Farm Service Agency (FSA) and MFH of the RHS currently share this regulation. The regulation governs the servicing of property insurance on buildings and land securing the interest of RHS or FSA in connection with an FSA Farm Loan Program or MFH loan. The information collected pertains to the verification of insurance on property securing Agency loans. FSA or RHS borrowers submit the information required to agency offices. It is necessary to protect the government from losses due to weather, natural disasters, or fire and ensure that loan applicants meet the Act's loan making requirements of hazard insurance.

Need and Use of the Information: RHS MFS collects information from borrowers documenting that they have sufficient insurance on their property that would repair or replace the valuable structures on the property should it be damaged. This protects the Government from losses due to weather, natural disasters or fire. Failure to obtain this information may lead to increased loan losses and the failure of the farm business.

Description of Respondents: Individuals or households; farms; business or for-profit.

Number of Respondents: 4,550.

Frequency of Responses: Reporting: on occasion.

Total Burden Hours: 2,614.

Rural Housing Service

Title: Technical & Supervisory Assistance Grants.

OMB Control Number: 0575-0188.

Summary of Collection: Section 525 (a) of Title V of the Housing Act of 1949 gives authorization to the Rural Housing Service (RHS) to make grants, to enter into contracts with eligible organizations, “to pay part or all of the cost of developing, conducting, administering or coordinating comprehensive programs of technical and supervisory assistance which will aid needy low-income individuals and families in benefiting from Federal, State, and local housing programs in rural areas.”

Need and Use of the Information: RHS staff in its local, State and National offices will collect information from applicants to determine eligibility for a grant, project feasibility, and to monitor performance after grants have been awarded. Failure to collect this information could result in waste and improper use of Federal funds.

Description of Respondents: Not for profit institutions; State, local, or tribal government.

Number of Respondents: 50.

Frequency of Responses: Recordkeeping; reporting: quarterly.

Total Burden Hours: 1,185.

Grain Inspection, Packers & Stockyards Administration

Title: Report and Recordkeeping Requirements.

OMB Control Number: 0580-0013.

Summary of Collection: The Grain Inspection, Packers and Stockyards Administration (GIPSA) is mandated to provide, upon request, inspection, certification, and identification services related to assessing the class, quality, quantity, and condition of agricultural products shipped or received in interstate and foreign commerce. Applicants requesting GIPSA services must specify the kind and level of service desired, the identification of the product, the location, the amount, and other pertinent information in order that official personnel can efficiently respond to their needs.

Need and Use of the Information: GIPSA employees use the information to guide them in the performance of their duties. Additionally, producers, elevator operators, and/or merchandisers who obtain official inspection, testing, and weighing services are required to keep records related to the grain or commodity for three years. Personnel who provide official inspection, testing, and weighing services are required to maintain records related to the lot of grain or related commodity for a period of five years. The information is used for the purpose of investigating suspected violations.

Description of Respondents: Business or other for-profit; Federal government; State, local, or tribal government.

Number of Respondents: 8,713.

Frequency of Responses: Recordkeeping; reporting: on occasion; weekly; monthly; semi-annually; annually.

Total Burden Hours: 159,151.

Agricultural Marketing Service

Title: Fruit and Vegetable Market New Survey: To Our Valued Customers.

OMB Control Number: 0581-NEW.

Summary of Collection: Section 203(g) of the Agricultural Marketing Act of 1946 (7 U.S.C. 1621) directs and authorizes the collection and dissemination of marketing information. The fruit and vegetable trade use the data as guides in making marketing decisions. Market News provides all interested segments of the market chain with timely, accurate information from an unbiased third party. A survey has been developed to improve and expand global market reporting for the fruit and vegetable industry.

Need and Use of the Information: Market News reports serve as data sources for other government agencies for planning and policy development and is used by other USDA agencies, such as the Economic Research Service and for the National Agricultural Statistical Service's Crop Production reports. In addition, Federal, State and local governments involved in food purchase programs and institutional buying, uses the Market News reports. If the information is not collected, the market news will not adequately meet the needs of the fruit and vegetable industry in the specific area of international markets.

Description of Respondents: Business or other for-profit; farms.

Number of Respondents: 500.

Frequency of Responses: Reporting: other (as needed).

Total Burden Hours: 25.

Food and Nutrition Service

Title: 7 CFR Part 225, Summer Food Service Program.

OMB Control Number: 0584-0280.

Summary of Collection: Section 13 of the National School Lunch Act, as amended, 42 U.S.C. 1761, authorizes the Summer Food Service Program (SFSP). The SFSP provides assistance to States to initiate and maintain nonprofit food service programs for needy children during the summer months and at other approved times. Under the program, a sponsor receives reimbursement for serving nutritious, well-balanced meals to eligible children at the food service sites. Information is gathered from State agencies and other organizations wishing to participate in the program to determine eligibility. FNS uses a variety of forms to collect information.

Need and Use of the Information: FNS uses the information collected to determine an organization's eligibility and to monitor program performance for compliance and reimbursement purposes.

Description of Respondents: Individuals or household; not-for-profit institutions; Federal government; State, local, or tribal government.

Number of Respondents: 141,226.

Frequency of Responses: Recordkeeping; reporting: on occasion; weekly; quarterly; monthly.

Total Burden Hours: 250,455.

Food and Nutrition Service

Title: Food Coupon Accountability Report.

OMB Control Number: 0584-0009.

Summary of Collection: The Food Stamp Act of 1977, (the Act) authorizes the Food and Nutrition Service (FNS), on behalf of the Secretary of Agriculture, to develop appropriate procedures for determining and monitoring the amount of food coupon inventories maintained by State agencies in the Food Stamp Program. Regulations for the Food Stamp Program require coupon issuers, bulk storage points, and claims collection points to report to their State agencies monthly on coupon inventories using the form FNS-250, Food Coupon Accountability Report.

Need and Use of the Information: The information collected on the FNS-250, shows the starting inventory as reported on the previous month's FNS 250, incoming shipments, returns to inventory, transfers in, transfer out, and credits. Monthly reporting on inventories ensures that coupons are available for issuance generally, ensures that the types of coupon books needed are on hand, and helps to keep storage and insurance costs down by allowing relatively low inventories.

Description of Respondents: State, local, or tribal government.

Number of Respondents: 118.

Frequency of Responses: Recordkeeping; reporting: monthly.

Total Burden Hours: 4,248.

Sondra Blakey,
Departmental Information Collection Clearance Officer.

[FR Doc. 04-24309 Filed 10-29-04; 8:45 am]

BILLING CODE 3410-02; 3410-XT; 3410-30; 3410-KD-P